DEPARTMENT OF COMMERCE

International Trade Administration

[A-570-007]

Barium Chloride From the People's Republic of China: Continuation of Antidumping Duty Order

AGENCY: Enforcement and Compliance, International Trade Administration, Department of Commerce.

ACTION: Notice.

SUMMARY: As a result of the determinations by the Department of Commerce (the “Department”) and the International Trade Commission (the “ITC”) that revocation of the antidumping duty (“AD”) order on barium chloride from the People's Republic of China (“PRC”) would likely lead to a continuation or recurrence of dumping and material injury to an industry in the United States, the Department is publishing a notice of continuation of the antidumping duty order.

DATES: Effective Date: November 5, 2015.

FOR FURTHER INFORMATION CONTACT: Irene Gorelik, AD/CVD Operations, Office V, Enforcement and Compliance, International Trade Administration, U.S. Department of Commerce, 14th Street and Constitution Avenue NW., Washington, DC 20230; telephone: (202) 482-6905.

SUPPLEMENTARY INFORMATION:

Background

On August 27, 1984, the Department published the final determination in the antidumping duty investigation of barium chloride from the PRC.¹ On October 17, 1984, the Department issued an antidumping duty order on imports of barium chloride from the PRC.²

¹ See Final Determination of Sales at Less Than Fair Value; Barium Chloride From the People's Republic of China, 49 FR 33916 (August 27, 1984) (“Final Determination”).

² See Antidumping Duty Order; Barium Chloride From the People's Republic of China, 49 FR 40635 (October 17, 1984) (“Order”).

On May 1, 2015, the Department initiated the fourth five-year (“sunset”) review of the AD order on barium chloride from the PRC pursuant to section 751(c) of the Tariff Act of 1930, as amended (the “Act”).³ As a result of its review, the Department determined that revocation of the antidumping duty order on barium chloride from the PRC would likely lead to a continuation or recurrence of dumping and, therefore, notified the ITC of the magnitude of the margins likely to prevail should the order be revoked.⁴ On October 30, 2015, the ITC published its determination, pursuant to section 751(c) of the Act, that revocation of the antidumping duty order on barium chloride from the PRC would likely lead to a continuation or recurrence of material injury to an industry in the United States within a reasonably foreseeable time.⁵

³ See Initiation of Five-Year (“Sunset”) Review, 80 FR 24900 (May 1, 2015).

⁴ See Barium Chloride from the People's Republic of China: Final Results of Expedited Fourth Sunset Review of the Antidumping Duty Order, 80 FR 36973 (June 29, 2015) and accompanying Issues and Decision Memorandum.

⁵ See Barium Chloride From China: Determination, 80 FR 66935 (October 30, 2015); see also Barium Chloride from China (Inv. No. 731-TA-149 (Fourth Review), USITC Publication 4574 (October 2015)).

Scope of the Order

The merchandise covered by the order is barium chloride, a chemical compound having the formulas BaCl2 or BaCl2-2H2O, currently classifiable under item number 2827.39.45.00 of the Harmonized Tariff Schedule of the United States (“HTSUS”).⁶ Although the HTSUS item number is provided for convenience and for U.S. Customs and Border Protection purposes, the written description remains dispositive.

⁶ The scope reflects the HTSUS item number currently in effect.

Continuation of the Order

As a result of the determinations by the Department and the ITC that revocation of the AD order would likely lead to a continuation or recurrence of dumping and material injury to an industry in the United States, pursuant to section 751(d)(2) of the Act, the Department hereby orders the continuation of the AD order on barium chloride from the PRC. U.S. Customs and Border Protection will continue to collect AD cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation. This five-year (“sunset”) review and this notice are in accordance with section 751(c) of the Act and published pursuant to section 777(i)(1) of the Act.

Dated: October 30, 2015.
Paul Piquado,
Assistant Secretary for Enforcement and Compliance.

[FR Doc. 2015-28250 Filed 11-4-15; 8:45 am]

BILLING CODE 3510-DS-P